FEDERAL COMMUNICATIONS COMMISSION

47 CFR Part 73

[MB Docket No. 03-130; DA 03-2639]

Definition of Radio Markets for Areas Not Located in an Arbitron Survey Area

AGENCY: Federal Communications Commission.

ACTION: Proposed rule; extension of comment period.

SUMMARY: This decision extends the period for filing public comments and reply comments in this proceeding at the request of commenters.

DATES: Comments are now due on October 6, 2003, and Reply Comments are due on October 21, 2003.

FOR FURTHER INFORMATION CONTACT: Amy Brett, Media Bureau, 202-418-2330.

SUPPLEMENTARY INFORMATION: This is a summary of the Commission's Order in MB Docket No. 03-130, DA 03-2639, adopted August 11, 2003, and released August 12, 2003. The complete text of this Order is available for inspection and copying during normal business hours in the FCC Reference Information Center, Courtyard Level, 445 12th Street, S.W., Washington, DC, and also may be purchased from the Commission's copy contractor, Qualex International, Portals II, 445 12th Street, SW., Room CY-B402, Washington, DC 20554, telephone 202-863-2893, facsimile 202-863-2898, or via e-mail at qualexint@aol.com. Alternative formats (computer diskette, large print, audio cassette, and Braille) are available to persons with disabilities by contacting Brian Millin at 202-418-7426, TTY 202-418-7365, or at bmillin@fcc.gov.

Synopsis of the Order

1. On July 2, 2003, the Commission released its Notice of Proposed Rule Making (“NPRM”) in conjunction with its Report and Order in this proceeding, completing its third biennial review of its broadcast ownership rules. (See NPRM at 68 FR 46359, August 5, 2003, and Report and Order at 68 FR 46286, August 5, 2003.) The current deadlines to file comments and reply comments in this proceeding are September 4, 2003 and September 19, 2003, respectively.

2. In the Report and Order, the Commission replaced its current contour-overlap methodology for defining radio markets with a geographic market approach in areas where such markets have been defined by Arbitron. These “Metro” markets are used to determine compliance with the local radio ownership rule. The Commission also initiated this proceeding to define radio markets for areas not covered by Metro markets. Until a new definition is developed, the Commission will use a modified contour-overlap methodology in non-Metro markets. The goal of the proceeding is to generate a map or a list of markets for radio stations across the entire country.

3. On August 8, 2003, the National Association of Broadcasters (“NAB”) and Saga Communications, Inc. (collectively, “Petitioners”) filed a joint motion asking the Commission to extend the comment and reply comment deadlines to October 20, 2003 and November 19, 2003, respectively. Petitioners assert that they need additional time to assess the impact of the options suggested by the Commission as well as to attempt to develop a market definition specific to radio. NAB has contracted with a consultant to study the Commission's options as well as others and requests additional time to accumulate and review the data. Petitioners also argue that additional time is needed for NAB's radio task force and Radio Board to act, and for staff to prepare comments reflecting the Board's decisions.

4. We believe that the public interest would be best served by granting a brief extension of the comment and reply comment filing deadlines so that commenters may assemble data and conduct studies that will inform our decision in this proceeding. At the same time, however, we recognize the importance of completing this proceeding in a timely fashion. Adopting a permanent definition of radio markets outside Metro areas will provide parties with long-term certainty as to the radio market definition and allow them to plan transactions accordingly. Accordingly, we will grant only a thirty-day extension. The new deadline for comments is October 6, 2003. The new deadline for replies is October 21, 2003.

Federal Communications Commission.
Robert Ratcliffe,
Deputy Chief, Media Bureau.

[FR Doc. 03-21652 Filed 8-22-03; 8:45 am]

BILLING CODE 6712-01-P